DEPARTMENT OF ENERGY

Federal Energy Regulatory Commission

Combined Notice of Filings #1

April 6, 2010.

Take notice that the Commission received the following exempt wholesale generator filings:

Docket Numbers: EG10-26-000

Applicants: Butler Ridge Wind Energy Center, LLC

Description: Notice of Self-Certification of Exempt Wholesale Generator Status of Butler Ridge Wind Energy Center, LLC.

Filed Date: 04/06/2010

Accession Number: 20100406-5127

Comment Date: 5 p.m. Eastern Time on Tuesday, April 27, 2010

Docket Numbers: EG10-27-000

Applicants: High Majestic Wind Energy Center, LLC

Description: Notice of Self-Certification of Exempt Wholesale Generator Status of High Majestic Wind Energy Center, LLC.

Filed Date: 04/06/2010

Accession Number: 20100406-5130

Comment Date: 5 p.m. Eastern Time on Tuesday, April 27, 2010

Docket Numbers: EG10-28-000

Applicants: Wessington Wind Energy Center, LLC

Description: Notice of Self-Certification of Exempt Wholesale Generator Status of Wessington Wind Energy Center, LLC.

Filed Date: 04/06/2010

Accession Number: 20100406-5138

Comment Date: 5 p.m. Eastern Time on Tuesday, April 27, 2010

Take notice that the Commission received the following electric rate filings:

Docket Numbers: ER10-999-000; ER10-998-000; ER10-1000-000; ER10-1001-000

Applicants: Westar Energy, Inc.

Description: Westar Energy, Inc requests approval of the issuance of refunds resulting from a correction made to FERC Form 1 to Kansas Electric Power Cooperative, Inc; filing dated 3/31/2010.

Filed Date: 04/01/2010

Accession Number: 20100401-0271

Comment Date: 5 p.m. Eastern Time on Thursday, April 22, 2010

Docket Numbers: ER10-1014-000

Applicants: Southwest Power Pool, Inc.

Description: Southwest Power Pool, Inc submits Third Revised Sheet 1027 et al. to FERC Electric Tariff, Fifth Revised Volume 1 to be effective 6/11/10.

Filed Date: 04/05/2010

Accession Number: 20100405-0224

Comment Date: 5 p.m. Eastern Time on Monday, April 26, 2010

Docket Numbers: ER10-1015-000

Applicants: California Independent System Operator Corporation

Description: The California Independent System Operator Corporation submits a Dynamic Scheduling Host Balancing Authority Operating Agreement with Gila River Power, LP.

Filed Date: 04/05/2010

Accession Number: 20100406-0204

Comment Date: 5 p.m. Eastern Time on Monday, April 26, 2010

Docket Numbers: ER10-1017-000

Applicants: Exelon Energy Company

Description: Exelon Energy Company submits its Baseline tariff filing, to be effective 4/6/2010.

Filed Date: 04/06/2010

Accession Number: 20100406-5071

Comment Date: 5 p.m. Eastern Time on Tuesday, April 27, 2010

Docket Numbers: ER10-1020-000

Applicants: Exelon Framingham, LLC

Description: Exelon Framingham, LLC submits its Baseline tariff filing, to be effective 4/6/2010.

Filed Date: 04/06/2010

Accession Number: 20100406-5097

Comment Date: 5 p.m. Eastern Time on Tuesday, April 27, 2010

Take notice that the Commission received the following electric securities filings:

Docket Numbers: ES10-19-002

Applicants: KCP&L Greater Missouri Operations Company

Description: Application to Amend Authorization to Issue Short-Term Debt Under Section 204 of the Federal Power Act and Request for Expedited Decision.

Filed Date: 04/06/2010

Accession Number: 20100406-5072

Comment Date: 5 p.m. Eastern Time on Friday, April 16, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-8348 Filed 4-12-10; 8:45 am]

BILLING CODE 6717-01-P